FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 19, 2015.

A. Federal Reserve Bank of Atlanta (Chapelle Davis, Assistant Vice President) 1000 Peachtree Street NE., Atlanta, Georgia 30309.

1. The Mary Helen Cheramie and Albert A. Cheramie Irrevocable Grantor Trust F/B/O Marc Anthony Cheramie, Marc Anthony Cheramie Trustee, Golden Meadow, Louisiana; The Mary Helen Cheramie and Albert A. Cheramie Irrevocable Grantor Trust F/B/O Deborah Cheramie Serigny, Deborah Cheramie Serigny Trustee, Cut Off, Louisiana; The Mary Helen Cheramie and Albert A. Cheramie Irrevocable Grantor Trust F/B/O Adam Cheramie, Adam Cheramie Trustee, Golden Meadow, Louisiana; and The Mary Helen Cheramie and Albert A. Cheramie Irrevocable Grantor Trust F/B/O Whitney Cheramie, Adam Cheramie Trustee, Golden Meadow, Louisiana, to retain 20 percent or more of the outstanding shares of SBT Bancshares, Inc., and its subsidiary, State Bank and Trust Company, both of Golden Meadow, Louisiana.

Board of Governors of the Federal Reserve System, May 29, 2015.
Michael J. Lewandowski,
Associate Secretary of the Board.

[FR Doc. 2015-13613 Filed 6-3-15; 8:45 am]

BILLING CODE 6210-01-P